LEGAL SERVICES CORPORATION

Sunshine Act Meeting of the Board of Directors

Time and Date: The Board of Directors of the Legal Services Corporation will meet on December 18, 2006 via conference call. The meeting will begin at 2 p.m., and continue until conclusion of the Board's agenda.

Location: 3333 K Street, NW., Washington, DC 20007, 3rd Floor Conference Room.

Status of Meeting: Open. Directors will participate by telephone conference in such a manner as to enable interested members of the public to hear and identify all persons participating in the meeting. Members of the public wishing to observe the meeting may do so by joining participating staff at the location indicated above. Members of the public wishing to listen to the meeting by telephone may obtain call-in information by calling LSC's FOIA Information line at (202) 295-1629.

Matters to be Considered: 1. Approval of the agenda.

2. Consider and act on delegation to the Chairman of the Board authority to negotiate a two-year extension of Helaine M. Barnett's term of employment as President of the Legal Services Corporation.

3. Consider and act on other business.

4. Public comment.

Contact Person for Information: Patricia Batie, Manager of Board Operations, at (202) 295-1500.

Special Needs: Upon request, meeting notices will be made available in alternate formats to accommodate visual and hearing impairments. Individuals who have a disability and need an accommodation to attend the meeting may notify Patricia Batie at (202) 295-1500.

Dated: December 11, 2006.
Victor M. Fortuno,
Vice President for Legal Affairs, General Counsel & Corporate Secretary.

[FR Doc. 06-9714 Filed 12-11-06; 4:09 pm]

BILLING CODE 7050-01-P